DEPARTMENT OF COMMERCE

International Trade Administration

Notice of Scope Rulings

AGENCY: Enforcement and Compliance, International Trade Administration, Department of Commerce.

DATES: Applicable December 2, 2020.

SUMMARY: The Department of Commerce (Commerce) hereby publishes a list of scope rulings and anti-circumvention determinations made during the period July 1, 2020, through September 30, 2020. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that the agency will publish in the Federal Register a list of scope rulings on a quarterly basis.¹ Our most recent notification of scope rulings was published on September 28, 2020.² This current notice covers all scope rulings and anti-circumvention determinations made by Enforcement and Compliance between July 1, 2020-September 30, 2020.

¹ See 19 CFR 351.225(o).

² See Notice of Scope Rulings, 85 FR 60762 (September 28, 2020).

Scope Rulings Made July 1, 2020 Through September 30, 2020

Republic of Korea (Korea)

A-580-836 and C-580-837: Certain Cut-to-Length Carbon-Quality Steel Plate Products From Korea

Requestor: Dongkuk Steel Mill Co., Ltd.; non-rectangular cross-section products (or, longitudinally-profiled `LP' plates) produced, but not yet exported to the United States, and identified by the 3-letter prefixes in the 14-digit product codes FPD (differenced thickness plate), FPS (step plate), and FPT (tapered plate), are outside the scope of the antidumping duty (AD) and countervailing duty (CVD) orders, August 4, 2020.

People's Republic of China (China)

A-570-822: Certain Helical Spring Lock Washers From China

Requestor: MacLean Power, L.L.C. (MPS). Helical spring lock washers incorporated in MPS's pole line hardware are outside the scope of the order because pole line hardware imported by MPS are distinct assembled products for use in the attachment of cables and wires onto utility poles. March 19, 2019. This is a revision, based on litigation, to our previous scope ruling.³

³ Our initial ruling was published in Notice of Scope Rulings, 84 FR 11742, 11743 (March 28, 2019). The Court of International Trade finalized its ruling on March 19, 2019.

A-570-967 and C-570-968: Aluminum Extrusions From China

Requestor: Schletter Inc. Eight models of grounding clamps, designed for securing solar panels to solar panel racking systems, are covered by the scope of the AD and CVD orders on aluminum extrusions from China because they consist of aluminum extrusion components that are attached to form subassemblies, and they lack the necessary components that would allow them to function as a finished solar panel mounting system; August 10, 2020.

Anti-Circumvention Determinations Made July 1, 2020, Through September 30, 2020

A-570-026 and C-570-027: Certain Corrosion-Resistant Steel Products (CORE) From China

Self-initiated: CORE completed in Costa Rica and the UAE from hot-rolled steel or cold-rolled steel substrate manufactured in China, and subsequently exported to the United States is circumventing the AD and CVD orders on CORE from China. CORE produced in Guatemala is not circumventing the orders; July 6, 2020.

A-570-028: Hydrofluorocarbon Blends From f China

Commerce determined not to include hydrofluorocarbon (HFC) components from China (R-32, R-125, R-143a) imported into the United States for further processing into HFC blends within the scope of the AD order on HFC blends from China; August 13, 2020.

Notification to Interested Parties

Interested parties are invited to comment on the completeness of this list of completed scope inquiries and anti-circumvention determinations made during the period July 1, 2020, through September 30, 2020. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: November 25, 2020.
James Maeder,
Deputy Assistant Secretary for Antidumping and Countervailing Duty Operations.

[FR Doc. 2020-26582 Filed 12-1-20; 8:45 am]

BILLING CODE 3510-DS-P